DEPARTMENT OF AGRICULTURE

Office of the Secretary

Notice of Appointment of Members to the National Agricultural Research, Extension, Education, and Economics Advisory Board

AGENCY: Research, Education, and Economics, USDA.

ACTION: Solicitation for membership.

SUMMARY: In accordance with the Federal Advisory Committee Act, 5 U.S.C. App., the United States Department of Agriculture announces solicitation for nominations to fill 11 vacancies on the National Agricultural Research, Extension, Education, and Economics Advisory Board.

DATES: Deadline for Advisory Board member nominations is June 3, 2002.

SUPPLEMENTARY INFORMATION: Section 802 of the Federal Agricultural Improvement and Reform Act of 1996 (The Farm Bill) authorized the creation of the National Agricultural Research, Extension, Education, and Economics Advisory Board. The Board is composed of 30 members, each representing a specific category related to farming or ranching, food production and processing, forestry research, crop and animal science, land-grant institutions, food retailing and marketing, rural economic development, and natural resource and consumer interest groups, among many others. The Board was first appointed by the Secretary of Agriculture in September 1996 and one-third of the 30 members were appointed for a 1, 2, and 3-year term, respectively. As a result of the staggered appointments, the terms for 10 of the 30 members who represent 10 specific categories will expire September 30, 2002. Nominations for a 3-year appointment for all 10 of the vacant categories are sought.

In addition, the current member of Category U. Food and Fiber Processors, will not be serving out the remainder of his term. Therefore, this slot will be vacant as well and available for a 1-year term nomination. All nominees will be carefully reviewed for their broad expertise, leadership, and relevance to a category. The full 11 slots to be filled are:

Category B. Farm Cooperatives

Category D. Plant Commodity Producers

Category G. National Aquaculture Associations

Category J. National Food Science Organizations

Category L. National Nutritional Science Societies

Category M. 1862 Land-Grant Colleges and Universities

Category R. Scientific Community not closely associated with Agriculture

Category U. Food and Fiber Processors (1-year term)

Category AA. An Agency of USDA lacking Research Capabilities

Category BB. Research Agency of the Federal Government other than USDA

Category DD. National Organization directly concerned with REE

Nominations are being solicited from organizations, associations, societies, councils, federations, groups, and companies that represent a wide variety of food and agricultural interests throughout the country. Nominations for one individual who fits several of the categories listed above, or for more than one person who fits one category will be accepted. In your nomination letter, please indicate the specific membership category for each nominee. Each nominee must fill out a form AD-755, “Advisory Committee Membership Background Information” (which can be obtained from the contact person below or may printed out from the following Web site: http://www:fs.fed.us, then search AD-755). All nominees will be vetted before selection. Appointments to the National Agricultural Research, Extension, Education, and Economics Advisory Board will be made by the Secretary of Agriculture. Send nominee's name, resume, and their completed AD-755 to USDA, Office of the Advisory Board, Research, Education, and Economics, 1400 Independence Avenue, SW., Room 344-A, JL Whitten Building, Washington, DC 20250-2255, postmarked no later than June 3, 2002.

FOR FURTHER INFORMATION CONTACT: Deborah Hanfman, Executive Director, National Agricultural Research, Extension, Education, and Economics Advisory Board, 1400 Independence Avenue, SW., Room 344-A, JL Whitten Building, Washington, DC 20250-2255. Telephone: 202-720-3684. Fax: 202-720-6199.

Nominations are open to all individuals without regard to race, color, religion, sex, national origin, age, mental or physical handicap, marital status, or sexual orientation. To ensure that recommendations of the Advisory Board take into account the needs of the diverse groups served by the Department, membership shall include, to the extent practicable, individuals with demonstrated ability to represent minorities, women, and persons with disabilities.

Done at Washington, DC, this 26th day of February 2002.
Joseph J. Jen,
Under Secretary, Research, Education, and Economics, U.S. Department of the Agriculture.

[FR Doc. 02-6208 Filed 3-14-02; 8:45 am]

BILLING CODE 3410-22-P